DEPARTMENT OF ENERGY

Federal Energy Regulatory Commission

[Docket No. CP00-36-004 and CP02-160-000]

Guardian Pipeline, L.L.C., ANR Pipeline Company; Notice of Application

April 19, 2002.

Take notice that on April 16, 2002, Guardian Pipeline, L.L.C. (Guardian), 330 Town Center Drive, Suite 900, Dearborn, Michigan 48126-2712, and ANR Pipeline Company (ANR), 9 E. Greenway Plaza, Suite 740, Houston, Texas, filed in Docket Nos. CP00-36-004 and CP02-160-000, a joint application, pursuant to Section 7(c) of the Natural Gas Act (NGA) and Part 157 of the Commission's Regulations for a certificate of public convenience and necessity authorizing the construction and operation of certain pipeline and measurement facilities in Illinois and authority for Guardian to lease capacity on ANR's pipeline segment, all as more fully set forth in the application which is on file with the Commission and open for public inspection. This filing may also be viewed on the Commission's web site at http://www.ferc.gov using the “RIMS” link, select “Docket #” and follow the instructions (call 202-208-2222 for assistance).

Guardian and ANR propose to construct and operate a 0.8 mile segment of interconnecting pipeline to connect an existing meter station owned and operated by ANR and Alliance Pipeline L.P. (Alliance) with a meter station being constructed by ANR under the automatic provisions of its blanket certificate authority in order to serve as an interconnect with Guardian's facilities. Guardian requests authorization to relocate its pig launcher facility to the proposed Guardian/ANR Meter Station location. Guardian and ANR also request authorization for Guardian to lease capacity from ANR on the proposed interconnecting pipeline. It is stated that Guardian's pipeline will still originate in the Joliet, Illinois, area, but will begin less than a mile north of the current beginning at MP0.0 and run southerly to intersect the already certificated Guardian pipeline at approximate MP.17. It is asserted that granting the requested authorization will lead to further integration of the Chicao Hub by creating access for Guardian shippers to gas supplies delivered both by ANR and Alliance.

Following receipt of the authorizations requested herein, Guardian and ANR request that the Commission vacate Guardian's certificated authority in Docket Nos. CP00-36-000 et al. to construct the Alliance Meter Station and the pipeline from the point where the realignment veers north toward the Guardian/ANR Meter Station (approximately MP 0.17) to MP 0.0. Guardian and ANR request that the certificate granting the requested authorizations be issued by May 15, 2002, in order to commence construction of the pipeline in June 2002.

Any questions regarding this application should be directed to George C. Hass, (Guardian) at (313)436-9238 or Tom G. Joyce, Manager, Certificates and Regulatory Compliance (ANR) at (832)676-3081.

There are two ways to become involved in the Commission's review of this project. First, any person wishing to obtain legal status by becoming a party to the proceedings for this project should, on or before April 29, 2002, file with the Federal Energy Regulatory Commission, 888 First Street, NE, Washington, DC 20426, a motion to intervene in accordance with the requirements of the Commission's rules of practice and procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments, protests and interventions may be filed electronically via the Internet in lieu of paper; see 18 CFR 385.2001(a)(1)(iii) and the instructions on the Commission's web site under the “e-Filing” link.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

Magalie R. Salas,
Secretary.

[FR Doc. 02-10143 Filed 4-24-02; 8:45 am]

BILLING CODE 6717-01-P